DEPARTMENT OF COMMERCE

International Trade Administration

(A-122-840)

Carbon and Certain Alloy Steel Wire Rod from Canada: Extension of Time Limit for Preliminary Results of the Antidumping Duty Administrative Review

AGENCY: Import Administration, International Trade Administration, Department of Commerce.

EFFECTIVE DATE: July 25, 2006.

FOR FURTHER INFORMATION CONTACT: Damian Felton or Brandon Farlander, AD/CVD Operations, Office 1, Import Administration, International Trade Administration, U.S. Department of Commerce, 14th Street and Constitution Avenue, NW, Washington, DC 20230; telephone: (202) 482-0133 or (202) 482-0182, respectively.

SUPPLEMENTARY INFORMATION:

Background

On October 3, 2005, the Department of Commerce (“the Department”) published an opportunity to request an administrative review of the antidumping duty order on carbon and certain alloy steel wire rod from Canada for the period October 1, 2004, to September 30, 2005. See Antidumping or Countervailing Duty Order, Filing, or Suspended Investigation; Opportunity to Request an Administrative Review, 70 FR 57558 (October 3, 2005). On May 25, 2006, the Department published in the Federal Register a notice extending the time limit for the preliminary results of the administrative review from July 3, 2006, to August 2, 2006. See Carbon and Certain Alloy Steel Wire Rod from Canada: Extension of Time Limit for Preliminary Results of the Antidumping Duty Administrative Review, 71 FR 30116 May 25, 2006). The preliminary results of this administrative review are currently due August 2, 2006.

Extension of Time Limit for Preliminary Results

Section 751(a)(3)(A) of the Tariff Act of 1930, as amended (“the Act”), requires the Department to issue preliminary results within 245 days after the last day of the anniversary month of an order. However, if it is not practicable to complete the review within this time period, section 751(a)(3)(A) of the Act allows the Department to extend the time period to a maximum of 365 days.

We determine that completion of the preliminary results of this review by August 2, 2006, is not practicable because the Department needs additional time to consider all comments filed by the petitioner and to fully analyze the respondent's responses on the record of this review. To accomplish this, and in accordance with section 751(a)(3)(A) of the Act, we are extending the time period for issuing the preliminary results by an additional 90 days until October 31, 2006. Therefore, the preliminary results are now due no later than October 31, 2006. The final results continue to be due 120 days after publication of the preliminary results.

We are issuing and publishing this notice in accordance with sections 751(a)(3)(A) and 777(i)(1) of the Act.

Dated: July 18, 2006.
Stephen J. Claeys,
Deputy Assistant Secretary for Import Administration.

[FR Doc. E6-11840 Filed 7-24-06; 8:45 am]

BILLING CODE 3510-DS-S